COMMISSION ON CIVIL RIGHTS

Agenda and Notice of Public Meetings of the South Dakota Advisory Committee

AGENCY: U.S. Commission on Civil Rights.

ACTION: Announcement of public meetings.

SUMMARY: Notice is hereby given, pursuant to the provisions of the rules and regulations of the U.S. Commission on Civil Rights (Commission), and the Federal Advisory Committee Act (FACA), that the South Dakota State Advisory Committee to the Commission will convene business meetings on the following Mondays at 12:30 p.m. Central Time: February 13, March 13, and April 10, 2023. The purpose of the business meetings is to discuss testimony heard related to the Committee's topic on voting rights and voter access.

DATES: Mondays at 12:30 p.m. CT: February 13, March 13, and April 10, 2023.

Recurring Zoom Link (video and audio): https://tinyurl.com/3stmv9et; password, if needed: USCCR-SD.

If Joining Briefing by Phone Only, Dial: 1-551-285-1373; Meeting ID: 160 729 5158#.

FOR FURTHER INFORMATION CONTACT: Mallory Trachtenberg at mtrachtenberg@usccr.gov.

SUPPLEMENTARY INFORMATION: The meetings are available to the public through the web links above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request other accommodations, please email mtrachtenberg@usccr.gov at least 10 business days prior to the meeting for which accommodations are requested.

Members of the public are entitled to make comments during the open period at the end of each meeting. Members of the public may also submit written comments; the comments must be received in the Regional Programs Unit within 30 days following each meeting. Written comments may be emailed to Mallory Trachtenberg at mtrachtenberg@usccr.gov. Persons who desire additional information may contact the Regional Programs Unit at (202) 809-9618. Records and documents discussed during meetings will be available for public viewing as they become available at www.facadatabase.gov. Persons interested in the work of this advisory committee are advised to go to the Commission's website, www.usccr.gov, or to contact the Regional Programs Unit at the above phone number or email address.

Agenda

Mondays at 12:30 p.m. CT: February 13, March 13, April 10, 2023

I. Welcome and Roll Call

II. Announcements

III. Discussion: Indigent Legal Services Report

IV. Public Comment

V. Adjournment

Dated: January 4, 2023.
David Mussatt,
Supervisory Chief, Regional Programs Unit.

[FR Doc. 2023-00230 Filed 1-9-23; 8:45 am]

BILLING CODE P